DEPARTMENT OF COMMERCE

International Trade Administration

A-570-851

Certain Preserved Mushrooms from the People's Republic of China: Final Results and Final Partial Rescission of the Sixth Administrative Review

AGENCY: Import Administration, International Trade Administration, Department of Commerce.

SUMMARY: On March 10, 2005, the Department of Commerce (the “Department”) published in the Federal Register the preliminary results of the administrative review of the antidumping duty order on certain preserved mushrooms from the People's Republic of China (“PRC”). See Certain Preserved Mushrooms from the People's Republic of China: Partial Rescission and Preliminary Results of the Sixth Administrative Review, 70 FR 11183 (March 6, 2006) (“Preliminary Results”). We provided interested parties an opportunity to comment on the Preliminary Results. Based upon our analysis of the comments and information received, we made changes to certain surrogate value calculation which affect the dumping margin calculation for Raoping Yucun Canned Foods Factory (“Raoping Yucun”) in these final results. We find that certain manufacturers/exporters sold subject merchandise at less than normal value during the period of review (“POR”).

EFFECTIVE DATE: July 17, 2006.

FOR FURTHER INFORMATION CONTACT: Paul Walker, AD/CVD Operations, Office 9, Import Administration, International Trade Administration, U.S. Department of Commerce, 14th Street and Constitution Avenue, NW, Washington, DC 20230; telephone: (202) 482-0413.

SUPPLEMENTARY INFORMATION:

Case History

The Preliminary Results in this administrative review were published on March 6, 2005. Since the Preliminary Results, the following events have occurred:

On April, 10, 2006, Raoping Yucun submitted surrogate value information.

On April 14, 2006, Raoping Yucun submitted its case brief. On April 19, 2006, the Department rejected Raoping Yucun's case brief because it contained new factual information. On April 21, 2006, Raoping Yucun submitted a revised case brief. On May 16, 2006, the Department rejected Raoping Yucun's revised case brief because it failed to remove all new factual information. On May 17, 2006, Raoping Yucun submitted a second revised case brief.

Scope Of The Order

The products covered by this order are certain preserved mushrooms, whether imported whole, sliced, diced, or as stems and pieces. The certain preserved mushrooms covered under this order are the species Agaricus bisporus and Agaricus bitorquis. “Certain Preserved Mushrooms” refer to mushrooms that have been prepared or preserved by cleaning, blanching, and sometimes slicing or cutting. These mushrooms are then packed and heated in containers including, but not limited to, cans or glass jars in a suitable liquid medium, including, but not limited to, water, brine, butter or butter sauce. Certain preserved mushrooms may be imported whole, sliced, diced, or as stems and pieces. Included within the scope of this order are “brined” mushrooms, which are presalted and packed in a heavy salt solution to provisionally preserve them for further processing.

Excluded from the scope of this order are the following: (1) All other species of mushroom, including straw mushrooms; (2) all fresh and chilled mushrooms, including “refrigerated” or “quick blanched mushrooms”; (3) dried mushrooms; (4) frozen mushrooms; and (5) “marinated,” “acidified,” or “pickled” mushrooms, which are prepared or preserved by means of vinegar or acetic acid, but may contain oil or other additives.¹

¹ On June 19, 2000, the Department affirmed that “marinated,” “acidified,” or “pickled” mushrooms containing less than 0.5 percent acetic acid are within the scope of the antidumping duty order. See “Recommendation Memorandum-Final Ruling of Request by Tak Fat, et al. for Exclusion of Certain Marinated, Acidified Mushrooms from the Scope of the Antidumping Duty Order on Certain Preserved Mushrooms from the People's Republic of China,” dated June 19, 2000. On February 9, 2005, this decision was upheld by the United States Court of Appeals for the Federal Circuit. See Tak Fat v. United States, 39C F.3d 1378 (Fed. Cir. 2005).

The merchandise subject to this order is classifiable under subheadings: 2003.10.0127, 2003.10.0131, 2003.10.0137, 2003.10.0143, 2003.10.0147, 2003.10.0153 and 0711.51.0000 of the Harmonized Tariff Schedule of the United States (“HTSUS”). Although the HTSUS subheadings are provided for convenience and customs purposes, the written description of the scope of this order is dispositive.

Rescission Of Review

In the Preliminary Results, we preliminarily rescinded the review with respect to Green Fresh Foods (Zhangzhou) Co., Ltd. (“Green Fresh”), which reported that it did not sell merchandise subject to the antidumping duty order during the POR. See Preliminary Results, 70 FR at 11184. Since the issuance of the Preliminary Results, no party has placed evidence on the record demonstrating that Green Fresh exported subject merchandise during the POR. Therefore, in accordance with 19 CFR 351.213(d)(3) and consistent with the Department's practice, we are rescinding this administrative review with respect to Green Fresh.

Analysis Of Comments Received

All issues raised in Raoping Yucun's case brief are listed in the Appendix to this notice and are addressed in the Issues and Decision Memorandum, which is hereby adopted by this notice. Parties can find a complete discussion of the issues raised in this administrative review, and the corresponding recommendations in this public memorandum, which is on file in the Central Records Unit (“CRU”), room B-099 of the main Department building. In addition, a complete version of the Issues and Decision Memorandum can be accessed directly on the internet at http://ia.ita.doc.gov/. The paper copy and electronic version of the Issues and Decision Memorandum are identical in content.

Changes Since The Preliminary Results

Based on the comments received from the interested parties, we have made changes to certain surrogate value calculations that affect the margin calculation for Raoping Yucun. For a discussion of these changes, see the Issues and Decision Memorandum, at Comments 1 and 5.

Facts Available

In the Preliminary Results, we based the dumping margins for Primera Harvest (Xiangfan) Incorporated (“PHX”), Gerber Food (Yunnan) Co., Ltd. (“Gerber”) and Guangxi Yulin Oriental Food Co., Ltd. (“Guangxi Yulin”) on total adverse facts available (“AFA”) for their sales of subject merchandise pursuant to sections 776(a) and 776(b) of the Tariff Act of 1930, as amended (the “Act”). See Preliminary Results, 70 FR at 11938-39.

We continue to apply total AFA to PHX because PHX withdrew from the instant administrative review, which significantly impeded our ability to conduct this review with respect to PHX. We continue to apply total AFA to Gerber and Guangxi Yulin because they did not respond to the Department's antidumping duty questionnaires, which significantly impeded our ability to conduct this review with respect to Gerber and Guangxi Yulin. Lastly, we continue to find that PHX, Gerber and Guangxi Yulin did not establish entitlement to a separate rate and thus are a part of the PRC-wide entity in this review. Because they failed to provide requested information, we continue to find that it is appropriate to apply facts available to PHX, Gerber and Guangxi Yulin in accordance with sections 776(a)(2)(A), (B), and (C) of the Act.

In addition, we continue to find, in accordance with section 776(b) of the Act, that AFA is appropriate. For these final results, we continue to find that as AFA, the PRC-wide entity rate of 198.63 is appropriate.

A complete explanation of the selection, corroboration, and application of AFA can be found in the Preliminary Results. See Preliminary Results, 70 FR at 11186. The Department has not received comments with regard to our selection and application of AFA. Nothing has changed since the Preliminary Results that would affect the Department's selection, corroboration, and application of AFA for the above-referenced companies in this review. Accordingly, for the final results, we continue to apply AFA as noted above.

Final Results Of Review

The weighted-average dumping margin for the POR is as follows:

Manufacturer/exporter | Margin (percent)
Raoping Yucun | 113.84
PRC-Wide Entity² | 198.63
²Which includes PHX, Gerber and Guangxi Yulin.

Cash Deposit Requirements

The following deposit requirements will be effective upon publication of the final results of this administrative review for all shipments of certain preserved mushrooms from the PRC entered, or withdrawn from warehouse, for consumption on or after the publication date of this notice, as provided for by section 751(a)(1) of the Act: (1) The cash deposit rates for the reviewed companies named above will be the rates for those firms established in the final results of this administrative review; (2) for any previously reviewed or investigated PRC or non-PRC exporter, not covered in this review, with a separate rate, the cash deposit rate will be the company-specific rate established in the most recent segment of those proceedings; (3) for all other PRC exporters, the cash deposit rates will be the PRC-wide rates established in the final results of this review; and (4) the cash deposit rate for any non-PRC exporter of subject merchandise from the PRC who does not have its own rate will be the rate applicable to the PRC exporter that supplied the non-PRC exporter. These deposit requirements, when imposed, shall remain in effect until publication of the final results of the next administrative review.

The PRC-Wide Cash Deposit Rates

The current PRC-wide cash deposit rate is 198.63 percent. This deposit requirement shall remain in effect until publication of the final results of the next administrative review.

Assessment Rates

The Department will issue appraisement instructions directly to U.S. Customs and Border Protection (“CBP”) within 15 days of publication of the final results of this administrative review. In accordance with 19 CFR 351.212(b)(1), we have calculated importer-specific assessment rates for merchandise subject to this review. For Raoping Yucun, we divided the total dumping margins of its reviewed sales by the total entered value of its reviewed sales for each applicable importer to calculate ad valorem assessment rates. We will direct CBP to assess the resulting assessment rates against the entered customs values for the subject merchandise on Raoping Yucun's entries under the relevant order during the POR.

To determine whether the duty assessment rates were de minimis, in accordance with the requirement set forth in 19 CFR 351.106(c)(2), we calculated importer-specific ad valorem rates. For Raoping Yucun, we aggregated the dumping margins calculated for all U.S. sales to each importer and divided this amount by the entered value of the sales to each importer. Where an importer-specific ad valorem rate is de minimis, we will order CBP to liquidate appropriate entries without regard to antidumping duties.

Lastly, for the respondents receiving dumping rates based upon AFA, the Department will instruct CBP to liquidate entries according to the AFA ad valorem rate. The Department will issue appraisement instructions directly to CBP upon the completion of the final results of this administrative review.

Reimbursement Of Duties

This notice also serves as a final reminder to importers of their responsibility under 19 CFR 351.402(f) to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results and notice in accordance with sections 751(a) and 777(i) of the Act.

Dated: July 5, 2006.
David M. Spooner,
Assistant Secretary for Import Administration.

Appendix I - Decision Memorandum

I. General Comments:

Comment 1: Surrogate Value for Straw

Comment 2: Surrogate Value for Mushroom Spawn

Comment 3: Surrogate Value for Cow Manure

Comment 4: Surrogate Value for Tin Cans/Lids

Comment 5: Surrogate Value for Steam Coal

Comment 6: Surrogate Value for Calcium Carbonate

Comment 7: Calculation of Surrogate Financial Ratios

[FR Doc. E6-11276 Filed 7-14-06; 8:45 am]

BILLING CODE 3510-DS-S